DEPARTMENT OF DEFENSE

Department of the Army

[Docket ID USA-2013-0021]

Privacy Act of 1974; System of Records

AGENCY: Department of the Army, DoD.

ACTION: Notice to amend a System of Records.

SUMMARY: The Department of the Army proposes to amend a system of records, A0500-5-1 DAMO, entitled “Worldwide Individual Augmentation System” in its inventory of record systems subject to the Privacy Act of 1974 (5 U.S.C. 552a), as amended. This system will document Army manning documents and manage individual augmentation requirements, sourcing, and accountability.

DATES: This proposed action will be effective on August 13, 2013 unless comments are received which result in a contrary determination. Comments will be accepted on or before August 12, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

SUPPLEMENTARY INFORMATION: The Department of the Army systems of records notices subject to the Privacy Act of 1974 (5 U.S.C. 552a), as amended, have been published in the Federal Register and are available from the address in FOR FURTHER INFORMATION CONTACT or at the Defense Privacy and Civil Liberties Office Web site at http://dpclo.defense.gov/privacy/SORNs/component/army/index.html.

The proposed changes to the record system being amended are set forth in this notice. The proposed amendment is not within the purview of subsection (r) of the Privacy Act of 1974 (5 U.S.C. 552a), as amended, which requires the submission of a new or altered system report.

Dated: July 9, 2013.
Aaron Siegel,
Alternate, OSD Federal Register Liaison Officer, Department of Defense.

A0500-5-1 DAMO

System name:

Worldwide Individual Augmentation System (September 22, 2009, 74 FR 48238)

* * * * *

Changes:

System Location:

Delete entry and replace with “Army Operation Center, The Pentagon, Room BE745, Washington, DC 20310-0400.”

* * * * *

Authority for the maintenance of the system:

Delete entry and replace with “10 U.S.C. 151, Joint Chiefs of Staff: composition; functions; 10 U.S.C. 153, Chairman: functions; 10 U.S.C. 162 Combatant commands: assigned forces; chain of command; 10 U.S.C. 164 Commanders of combatant commands: assignment; powers; 10 U.S.C. 167 Unified combatant command for special operations; 10 U.S.C. 3013 Secretary of the Army; 10 U.S.C. 5031, Office of the Chief of Naval Operations: function; 10 U.S.C. 8031 The Air Staff: function; composition; 10 U.S.C. 12301, Reserve components generally; 10 U.S.C. 12302 Ready Reserve; 10 U.S.C. 12304 Selected Reserve and certain Individual Ready; Joint Publications 1-0 Personnel Support to Joint Operations, 2-0 Joint Intelligence, 3-0 Joint Operations, and 5-0 Joint Operation Planning; Army General Order GO 2012-01, Assignment of Functions and Responsibilities Within Headquarters, Department of the Army; CJCSI 1301.01D, Joint Individual Augmentation Procedures; DA PAM 500-5-1, Individual Augmentation Management; and E.O. 9397 (SSN), as amended.”

* * * * *

Notification Procedure:

Delete entry and replace with “Individuals seeking to determine if information about themselves is contained in this system should address written inquiries to the Chief, Individual Augmentation Branch, Current Operations Division, Headquarters, Department of the Army, G3/5/7, Army Operations Center, Washington, DC 20310-0400, or the commander or supervisor of organization to which the individual is/was assigned or employed. Official mailing addresses are published as an appendix to the Army's compilation of systems of records notices.

Individual should provide full name, SSN and/or DoD ID number and military status, and other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Record access procedures:

Delete entry and replace with “Individuals seeking access to information about themselves contained in this system should address written inquiries to the Chief, Individual Augmentation Branch, Current Operations Division, Headquarters, Department of the Army, G3/5/7, Army Operations Center, Washington, DC 20310-0400, or to the commander or supervisor of organization to which individual is/was assigned or employed. Official mailing addresses are published as an appendix to the Army's compilation of systems of records notices.

Individual should provide full name, SSN and/or DoD ID number and military status, and information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature).

If executed within the United States, its territories, possessions, or commonwealths: `I declare (or certify, verify, or state) under penalty of perjury that the foregoing is true and correct. Executed on (date). (Signature).' ”

* * * * *

[FR Doc. 2013-16744 Filed 7-11-13; 8:45 am]

BILLING CODE 3710-08-P